NUCLEAR REGULATORY COMMISSION

[Docket Nos. 50-0327 and 50-0328; NRC-2014-0045]

Tennessee Valley Authority, Sequoyah Nuclear Plant, Units 1 and 2

AGENCY: Nuclear Regulatory Commission.

ACTION: License amendment application; withdrawal by applicant.

SUMMARY: The U.S. Nuclear Regulatory Commission (NRC) has granted the request of Tennessee Valley Authority (the licensee) to withdraw its application dated October 2, 2013, for a proposed amendment to DPR-77 and DPR-79. The proposed amendment would have revised Units 1 and 2 Technical Specification (TS) 3.7.5, “Ultimate Heat Sink.”

ADDRESSES: Please refer to Docket ID NRC-2014-0045 when contacting the NRC about the availability of information regarding this document. You may obtain publicly-available information related to this document using any of the following methods:

• Federal Rulemaking Web site: Go to http://www.regulations.gov and search for Docket ID NRC-2014-0045. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: Andrew Hon, Office of Nuclear Reactor Regulation, U.S. Nuclear Regulatory Commission, Washington DC 20555-0001; telephone: 301-415-8480, email: Andrew.Hon@nrc.gov.

SUPPLEMENTARY INFORMATION: The NRC has granted the request of Tennessee Valley Authority (the licensee) to withdraw its October 2, 2013, application (ADAMS Accession No. ML13280A267) for proposed amendment to Facility Operating License Nos. DPR-77 and DPR-79 issued to the licensee for operation of the Sequoyah Nuclear Plant, Units 1 and 2, located in Hamilton County, Tennessee.

The licensee requested to revise Units 1 and 2 TSs 3.7.5, “Ultimate Heat Sink,” to place additional limitations on the maximum average Essential Raw Cooling Water (ERCW) System supply header water temperature during operation with one ERCW pump per loop and operation with one ERCW supply strainer per loop. In addition, the one-time limitations on Unit 1 ultimate heat sink (UHS) temperature and the associated license condition requirements used for the Unit 2 steam generator replacement project are proposed to be deleted. The proposed changes would place additional temperature limitations on the UHS TS Limiting Condition for Operation 3.7.5 with associated required actions, to support maintenance on plant component without requiring a dual unit shutdown.

This proposed amendment request was noticed in 78 FR 74184 dated December 10, 2013 and supplemented by letters dated December 11, 2013 (ML13354A715), August 18, 2014 (ML14231B294) and October 22, 2015 (ML15295A427).

Dated at Rockville, Maryland, this 28th day of October 2015.
For the Nuclear Regulatory Commission.
Shana R. Helton,
Chief, Plant Licensing Branch II-2, Division of Operating Reactor Licensing, Office of Nuclear Reactor Regulation.

[FR Doc. 2015-28253 Filed 11-4-15; 8:45 am]

BILLING CODE 7590-01-P